DEPARTMENT OF THE INTERIOR

Bureau of Land Management

[AK-931-1310-DB-CPAI]

Notice of Availability of the Alpine Satellite Development Plan Final Environmental Impact Statement; National Petroleum Reserve—Alaska, and Colville River Delta

AGENCY: Bureau of Land Management, Interior.

ACTION: Notice of availability.

SUMMARY: The Bureau of Land Management (BLM) announces the availability of the Alpine Satellite Development Plan Final Environmental Impact Statement (FEIS). The FEIS provides National Environmental Policy Act (NEPA) analysis and examines potential impacts of ConocoPhillips Alaska, Inc.’s (CPAI) proposed action to develop five satellite oil accumulations in the Northeast National Petroleum Reserve—Alaska and the adjacent Colville River Delta.

DATES: Written comments on the FEIS will be accepted for 30 days following the date the Environmental Protection Agency (EPA) publishes the Notice of Availability in the Federal Register. Following this period of availability for public review, the BLM will issue a Record of Decision regarding the Preferred Alternative within its authority. Comments on EPA's NPDES GP coverage will also be accepted for the same 30 days.

ADDRESSES: Written comments on the FEIS should be sent to James H. Ducker, Bureau of Land Management, Alaska State Office (931), 222 West 7th Avenue, Anchorage, Alaska 99513-7599. Individual respondents may request confidentiality. If you wish to withhold your name or street address from public review or from disclosure under the Freedom of Information Act, you must state this prominently at the beginning of your written comment. Such request will be honored to the extent allowed by law. All submissions from organizations and businesses and from individuals identifying themselves as representatives or officials of organizations or businesses will be available for public inspection in their entirety. The FEIS will be available in either hard copy or on compact disk at the Alaska State Office, Public Information Center at 222 West 7th Avenue, Anchorage, Alaska, 99513-7599. Copies of the FEIS will also be available for public review at the following locations: City of Anaktuvuk Pass, Anaktuvuk Pass, Alaska; Loussac Library and Alaska Resources Library and Information Service, Anchorage, Alaska; City of Atqasuk, Atqasuk, Alaska; Tuzzy Public Library, Barrow, Alaska; City of Nuiqsut, Nuiqsut, Alaska; and Noel Wein Library Fairbanks, Alaska. The entire document can be reviewed at the project Web site at http://www.alpine-satellites-eis.com or through BLM—Alaska's Web site at http://www.ak.blm.us.

Written comments on EPA's NPDES GP should be sent to Cindi Godsey, U.S. Environmental Protection Agency, 222 W. 7th Avenue, Box 19, Anchorage, Alaska 99513.

FOR FURTHER INFORMATION CONTACT: Jim Ducker, BLM Alaska State Office, 907-271-3130 or Gary Foreman, BLM Northern Field Office, 907-474-2339.

SUPPLEMENTARY INFORMATION: CPAI proposes to develop five drilling pads and associated access roads, bridges, pipelines, power lines, and an airstrip. The pads are termed CD-3, CD-4, CD-5, CD-6, and CD-7. In the Colville River Delta, CD-3 is on State of Alaska land and CD-4 is on land owned by Kuukpik Corporation, a Native-owned corporation created under the authority of the Alaska Native Claims Settlement Act for the village of Nuiqsut. CD-5 is on land conveyed to Kuukpik within the National Petroleum Reserve—Alaska; CD-6 and CD-7 are on lands administered by the BLM in the National Petroleum Reserve—Alaska. The company proposes to place 20 to 30 wells on each pad and to transport the unprocessed, three-phase (oil, gas, and water) drilling product to the Alpine Central Processing Facility for processing. Processed oil would be placed in the existing pipeline system for transport to the Trans-Alaska Pipeline System.

The FEIS evaluates a range of alternatives, consistent with applicable law, by which to accomplish the proposed action while mitigating adverse impacts. Five action alternatives that fulfill the purpose and need of the proposed action are presented and analyzed, including a Preferred Alternative. The Preferred Alternative is a modification of the applicant's proposal, includes components from each of the action alternatives analyzed in the DEIS and reflects consideration of public and agency comments, regulatory needs, and further mitigation of environmental concerns. The Preferred Alternative would authorize development of the five pads at the locations requested by CPAI. Gravel roads would connect CD-4 through CD-7 to the Alpine Central Processing Facility; CD-3 would be accessed by use of an airstrip or by ice road. Substantial portions of the road and pipeline on BLM-managed lands would be moved outside of a setback from Fish Creek, bridges across the Nigliq Channel and the Ublutuoch River would be from bank to bank, all pipelines would be elevated a minimum of 7 feet above the ground as measured at the vertical support members, and all power lines would be placed in cable trays mounted on the vertical support members. The other alternatives include the applicant's proposal (Alternative A) and variations that included such features alternative road, bridge, pipeline, and pad locations; access only by airplane or helicopter; a mix of road and air access; a 5-feet high pipeline; and power transmission on power poles or buried in the ground. The No Action Alternative is presented as a benchmark, enabling the public and decision makers to compare the magnitude of environmental affects of the action alternatives. The alternatives cover the full range of reasonable development scenarios.

Also included in the FEIS is an analysis of full-field development (FFD) for an 890,000-acre area that includes the Colville River Delta west of its eastern-most channel and extends west to the vicinity of the mouth of the Kogru River on the west side of Harrison Bay and south from the Kogru River mouth for approximately 45 miles. In addition to development proposed by CPAI, the EIS analyzes development options for pads, pipelines, and other facilities throughout the Plan Area in order to identify potential mitigation measures for future development in the area. FFD is provided for analysis purposes only, and neither the Preferred Alternative nor the Record of Decision will include FFD as part of the action proposal. Decisions on future proposals for developments in the area would be addressed through additional NEPA analysis.

Section 810 of the Alaska National Lands Conservation Act requires the BLM to evaluate the effects of plans presented in this FEIS on subsistence activities in the area of the proposed action and alternatives, and to hold public hearings if it finds that any alternative may significantly restrict subsistence activities. The Draft EIS found that the proposal and some alternatives may significantly restrict subsistence activities. As a consequence, BLM held public hearings on subsistence in conjunction with the public meetings to accept comments on the Draft EIS in the northern Alaskan communities of Nuiqsut, Barrow, Atqasuk, and Anaktuvuk Pass. Appendix B of the FEIS describes how the Preferred Alternative and the other action alternatives may significantly restrict subsistence activities. In addition, all alternatives may significantly restrict subsistence in the cumulative case. The Appendix makes determinations required by Section 810 prior to authorizing an action.

The EPA has made a tentative determination to issue coverage under the North Slope General Permit AKG-33-0000 (NSGP) to ConocoPhillips Alaska, Incorporated, for discharges of domestic wastewater from the Alpine Satellite Development Plan. Persons wishing to comment on EPA's tentative determinations of General Permit (GP) coverage may do so in writing within the public notice period. Comments must be received by EPA no later than 30 days following the date the EPA publishes the Notice of Availability for the FEIS in the Federal Register, to be considered in the EPA's final determinations regarding NPDES GP coverage.

All comments regarding NPDES GP coverage should include: (1) The name, address, and telephone number of the commenter; (2) a concise statement of the exact basis for any comment; and (3) the relevant facts upon which the comment is based. For additional information regarding the NPDES GP, please refer to Appendix M: Public Notice of Coverage Under the National Pollutant Discharge Elimination System General Permit to Discharge to Waters of the United States for Facilities Related to the Extraction of Oil and Gas on the North Slope of the Brooks Range, Alaska (AKG-33-0000) in the FEIS. Public participation has occurred throughout the period since the BLM published a Notice of Intent (NOI) in the Federal Register on February 18, 2003, announcing the intent to begin preparation of the Alpine Satellite Development Plan EIS. Public scoping meetings were held in Anchorage, Barrow, Nuiqsut, and Fairbanks between March 6 and March 20, 2003. Public comments were received on the DEIS from January 16 through March 8, 2004, and during that period public comment meetings were held in Anaktuvuk Pass, Anchorage, Atqasuk, Barrow, Nuiqsut, and Fairbanks.

The BLM and four cooperating agencies—EPA, U.S. Army Corps of Engineers (USACE), U.S. Coast Guard, and the State of Alaska have also conducted government-to-government consultation with three Native Alaskan governments: The Native Village of Barrow, the Inupiaq Community of the Arctic Slope, and the Native Village of Nuiqsut, and have worked closely with the North Slope Borough, the local government of Nuiqsut, and other Federal agencies on the environmental impact statement.

The development on Federal lands within the National Petroleum Reserve-Alaska is subject to the management direction provided by the BLM's Record of Decision for the Northeast National Petroleum Reserve-Alaska Integrated Activity Plan/Environmental Impact Statement (IAP/EIS). The Record of Decision (ROD) for this development environmental impact statement may amend the IAP/EIS. Any amendment, including exceptions to requirements to the IAP/EIS, would be limited to those changes necessary for the development authorized by BLM in the ROD and will not constitute a general amendment of the IAP/EIS.

EPA is a cooperating agency because it potentially has a permitting decision to make on the disposal of wastewater from camps under an NPDES permit. The alternatives presented in the FEIS discuss the use of a general permit or an individual permit. The USACE as a cooperating agency will review the proposed project pursuant to relevant Federal jurisdiction.

Henri R. Bisson,
State Director.

[FR Doc. 04-20036 Filed 9-2-04; 8:45 am]

BILLING CODE 4310-JA-P